DEPARTMENT OF JUSTICE

Parole Commission

Notice of Meeting; Sunshine Act

Public Announcement: Pursuant to the Government in the Sunshine Act (Pub. L. 94-409) [5 U.S.C. Section 552b].

Agency Holding Meeting: Department of Justice, Parole Commission.

Time and Date: 10 a.m., Thursday, May 6, 2010.

Place: 5550 Friendship Blvd., Fourth Floor, Chevy Chase, MD 20815.

Status: Open.

Matters to be Considered: The following matters have been placed on the agenda for the open Parole Commission meeting:

1. Approval of Minutes from the January 21, 2010 Quarterly Business Meeting.

2. Reports from the Chairman, Commissioners, and Section Administrators.

3. Revision of YRA Set Aside Rule.

Agency Contact: Patricia W. Moore, Staff Assistant to the Chairman, United States Parole Commission, (301) 492-5933.

Dated: April 27, 2010.
Rockne J. Chickinell,
General Counsel, U.S. Parole Commission.

[FR Doc. 2010-10436 Filed 5-5-10; 8:45 am]

BILLING CODE 4410-31-M